DEPARTMENT OF THE INTERIOR

National Park Service

[NPS-WASO-CR-NR-NHL-NPS0033310; PPWOCRADP2, PCU00RP15.R50000 (222); OMB Control Number 1024-0276]

Agency Information Collection Activities; Submission to the Office of Management and Budget for Review and Approval; National Historic Landmarks Nomination Form

AGENCY: National Park Service, Interior.

ACTION: Notice of information collection; request for comment.

SUMMARY: In accordance with the Paperwork Reduction Act of 1995 we, the National Park Service (NPS) are proposing to renew an information collection.

DATES: Interested persons are invited to submit comments on or before April 27, 2022.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0276 (NHL)” in the subject line of your comments.

FOR FURTHER INFORMATION CONTACT: To request additional information about this ICR, contact Patty Henry by email at patty_henry@nps.gov, or by telephone at 202-354-2216. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 8, 2021 (86 FR 30469). No public comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Authorized by the Historic Sites Act of 1935 (54 U.S.C. 320101 et seq.), National Historic Landmarks Program (36 CFR part 65), and the National Historic Preservation Act of 1966 (54 U.S.C. 300101 et seq.) the NPS collects information on behalf of the Secretary of the Interior to evaluate properties applying for historic landmark designation. In accordance with the law and 36 CFR part 65, private citizens, businesses, and organizations; federal agencies (FPO); state and local public agencies; State Historic Preservation Officers (SHPOs); territories; and Indian tribes (THPO) may submit nominations for National Historic Landmark (NHL) designation. All interested parties must inquire by letter or email about the eligibility of properties to be considered for NHL designation. The inquiry includes the name, location, brief description, and historical summary of property. If determined eligible for consideration the respondent will use NPS Form 10-934, “National Historic Landmarks Nomination” to nominate a property. The form is used to collect the following information related to the property:

(1) Name and location

(2) data related to the national significance of the property

(3) any withholding of sensitive information

(4) geographical data

(5) statements and discussions about the national significance of the property

(6) description and statement of integrity

(7) major bibliographic references and

(8) name, organization, address, phone number, and email of the person completing the form

Title of Collection: National Historic Landmarks Nomination Form.

OMB Control Number: 1024-0276.

Form Number: 10-934, “National Historic Landmark Nomination”.

Type of Review: Extension of a currently approved collection.

Respondents/Affected Public: Private individuals; federal, state, tribal and local governments; businesses; educational institutions; and nonprofit organizations.

Total Estimated Number of Annual Respondents: 50.

Total Estimated Number of Annual Responses: 50.

Estimated Completion Time per Response: Average time 344 hours.

Total Estimated Number of Annual Burden Hours: 10,360.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-06443 Filed 3-25-22; 8:45 am]

BILLING CODE 4312-52-P